DEPARTMENT OF HOMELAND SECURITY

Office of the Secretary

Privacy Act of 1974; Consolidation of U.S. Citizenship and Immigration Services Background Check Service System of Records

AGENCY: Privacy Office, DHS.

ACTION: Notice to consolidate one Privacy Act system of records notice.

SUMMARY: In accordance with the Privacy Act of 1974, the Department of Homeland Security is giving notice that it proposes to consolidate one Privacy Act system of records notice, Justice/INS-024 FD-258 Fingerprint Tracking System, July 31, 2000, into the existing U.S. Citizenship and Immigration Services system of records notice titled DHS-USCIS-002 U.S. Citizenship and Immigration Services Background Check Service, January 5, 2007.

DATES: Effective Date: January 12, 2009.

FOR FURTHER INFORMATION CONTACT: Hugo Teufel III, Chief Privacy Officer, Department of Homeland Security, Washington, DC 20528, by telephone (703) 235-0780 or facsimile 1-866-466-5370.

SUPPLEMENTARY INFORMATION: Pursuant to the provisions of the Privacy Act of 1974, 5 U.S.C. 552a, and as part of its ongoing integration and management efforts, the Department of Homeland Security (DHS) is consolidating one U.S. Citizenship and Immigrations Services (USCIS) system of records notice titled, Justice/INS-024 FD-258 Fingerprint Tracking System (65 FR 46741 July 31, 2000) into the existing U.S. Citizenship and Immigration Services system of records notice titled DHS-USCIS-002 U.S. Citizenship and Immigration Services Background Check Service, (72 FR 31082 January 5, 2007).

Justice/INS-024 FD-258 Fingerprint Tracking System was originally established to determine the status of pending fingerprint submissions to the Federal Bureau of Investigation (FBI) and the results of the FBI check, and to account for and control the receipt and processing of fingerprints submitted to the FBI for a criminal background check.

Eliminating this system of records notice will have no adverse impact on individuals, but will promote the overall streamlining and management of DHS Privacy Act record systems.

Dated: December 2, 2008.
Hugo Teufel III,
Chief Privacy Officer, Department of Homeland Security.

[FR Doc. E8-29260 Filed 12-10-08; 8:45 am]

BILLING CODE 4410-10-P